DEPARTMENT OF THE INTERIOR

Bureau of Reclamation

Central Valley Project Improvement Act, Criteria for Developing Refuge Water Management Plans

AGENCY: Bureau of Reclamation, Interior.

ACTION: Notice.

SUMMARY: The “Criteria for Developing Refuge Water Management Plans” (Refuge Criteria), as applied in the following areas, are now available for public comment.

• North Grassland State Wildlife Area, China Island

• North Grassland State Wildlife Area, Salt Slough

• Merced National Wildlife Refuge

• Los Banos State Wildlife Area

• Mendota State Wildlife Area

• San Luis National Wildlife Refuge

• Sacramento National Wildlife Refuge

• Delevan National Wildlife Refuge

• Colusa National Wildlife Refuge

• Kern National Wildlife Refuge

• Volta State Wildlife Area

• Pixley National Wildlife Refuge

The Refuge Criteria provides a common methodology, or standard, for efficient use of water by Federal Wildlife Refuges, State Wildlife Management Areas and Resource Conservation Districts that receive water under provisions of the Central Valley Project Improvement Act (CVPIA). They document the process and format by which Refuge Water Management Plans (Plans) should be prepared and submitted to Reclamation as part of the Refuge/District Water Supply Contracts and Memorandum of Agreements. The Refuge Criteria refers to Refuges, Wildlife Areas and Resource Conservation Districts as Refuges. Those Refuges that entered into water supply contracts with Reclamation, as a result of the CVPIA and subsequent Department of the Interior administrative review processes, are required to prepare Plans using the Refuge Criteria.

DATES: All public comments must be received by December 13, 2006.

ADDRESSES: Please mail comments to Ms. Laurie Sharp, Bureau of Reclamation, 2800 Cottage Way, MP-410, Sacramento, California 95825, 916-978-5232, or e-mail at lsharp@mp.usbr.gov.

FOR FURTHER INFORMATION CONTACT: To be placed on a mailing list for any subsequent information or to obtain a copy of any water management plans, please contact Ms. Sharp at the e-mail address or telephone number above.

SUPPLEMENTARY INFORMATION: In response to the Central Valley Project Improvement Act of 1992 and a 1995 Department of the Interior administrative review process, the Interagency Coordinated Program for Wetland and Water Use Planning (ICP) was formed. The ICP was comprised of representatives from the Bureau of Reclamation, the U.S. Fish and Wildlife Service, the California Department of Fish and Game, and the Grassland Water District/Grassland Resource Conservation District. The ICP developed the 1998 Task Force Report, which outlines past, present, and future wetland planning and management issues and a methodology for Refuge Criteria. To continue the work of the now disbanded ICP, an Interagency Refuge Water Management Team (IRWMT) was formed to continue working on wetland issues such as water delivery, including additional work on wetland Refuge Criteria. The IRWMT is comprised of representatives from the Bureau of Reclamation, the U.S. Fish and Wildlife Service, the California Department of Fish and Game, and the Grassland Water District/Grassland Resource Conservation District. The IRWMT used the 1998 Task Force Report and Reclamation's 1999 Conservation and Efficiency Criteria as the foundation for developing the water management planning requirements or criteria included in these Refuge Criteria. The Refuge Criteria also incorporated comments, ideas, and suggestions from Refuge/District managers, biologists, water conservation specialists, engineers, the CALFED Bay-Delta Program, and other Central Valley stakeholders.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety. Public comments for the Refuge Criteria are now being accepted.

Dated: October 31, 2006.
Richard M. Stevenson,
Acting Regional Resources Manager, Mid-Pacific Region.

[FR Doc. E6-19083 Filed 11-9-06; 8:45 am]

BILLING CODE 4310-MN-P